DEPARTMENT OF STATE

[Public Notice 9011]

Texas-New Mexico Regional Meeting of the Binational Bridges and Border Crossings Group

SUMMARY: Delegates from the United States and Mexican Governments, the states of Texas and New Mexico, and the Mexican states of Chihuahua, Coahuila, Nuevo Leon, and Tamaulipas will participate in the Texas-New Mexico Regional meeting of the U.S.-Mexico Binational Bridges and Border Crossings Group on February 5, 2015, in Austin Texas. The purpose of this meeting is to discuss operational matters involving existing and proposed international bridges and border crossings and their related infrastructure, and to exchange views on policy as well as technical information. This meeting includes a public session on Thursday, February 5, 2015, from 8:30 a.m. until 11:00 a.m. This session allows proponents of proposed bridges and border crossings and related projects to make presentations to the delegations and members of the public.

FOR FURTHER INFORMATION CONTACT: For further information on the meeting and to attend the public session, please contact the Mexico Desk's Border Affairs Unit, via email at WHA-BorderAffairs@state.gov, by phone at 202-647-9894, or by mail at Office of Mexican Affairs—Room 3924, Department of State, 2201 C St. NW., Washington, DC 20520.

Rachel M. Poynter,
Deputy Director, Office of Mexican Affairs, Bureau of Western Hemisphere Affairs, U.S. Department of State.

[FR Doc. 2015-01459 Filed 1-26-15; 8:45 am]

BILLING CODE 4710-29-P